DEPARTMENT OF THE INTERIOR

Bureau of Land Management

[ID-086-1220-AA]

Restriction Order for BLM Lands on Blackwell Island, Kootenai County, ID

AGENCY: Bureau of Land Management, Interior.

ACTION: Notice of restriction order for BLM lands on Blackwell Island, Kootenai County, Idaho, Order No. ID-080-29.

SUMMARY: By order, all public land at Blackwell Island Coeur d'Alene, Idaho is temporarily closed to all public use for the duration of site improvement construction activities. The affected area is described as all public land north of U. S. Highway 95 within the city limits of Coeur d'Alene in section 14: lots 4 and 5, T. 50N., R. 4W., B.M. A map depicting the closed area is available for public inspection at the Bureau of Land Management, Coeur d'Alene Field Office, 1808 North Third Street, Coeur d'Alene, Idaho. The closure becomes effective immediately and shall remain in effect until construction activities are completed and this order is rescinded.

The authority for establishing this restriction is Title 43, Code of Federal Regulations, 8364.1

This restriction does not apply to:

(1) Any federal, state or local government officer or member of an organized rescue or fire fighting force while in the performance of an official duty.

(2) Any Bureau of Land Management employee, agent, contractor, or cooperator while in the performance of an official duty.

(3) Any contractor, subcontractor or delivery person while in the performance of an approved site construction activity.

(4) Any person or group expressly authorized by an Authorized Officer to use or occupy the subject public land through the issuance of a permit or other use authorization instrument.

This temporary closure is necessary as a public safety measure and to avoid public interference with construction activities.

Violation of this order is punishable by a fine not to exceed $1,000 and/or imprisonment not to exceed 12 months.

FOR FURTHER INFORMATION CONTACT: Terry Kincaid, (208) 769-5031.

Dated: October 18, 2001.
Ted Graf,
Acting District Manager.

[FR Doc. 01-28607 Filed 11-14-01; 8:45 am]

BILLING CODE 4310-GG-P